DEPARTMENT OF AGRICULTURE

Animal and Plant Health Inspection Service

[Docket No. APHIS-2020-0085]

Notice of Request for Revision to and Extension of Approval of an Information Collection; National Veterinary Services Laboratories Request Forms

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection associated with its efforts to safeguard the health of the U.S. livestock and poultry populations by the use of National Veterinary Services Laboratories request forms.

DATES: We will consider all comments that we receive on or before November 20, 2020.

ADDRESSES: You may submit comments by either of the following methods:

• Federal eRulemaking Portal: Go to http://www.regulations.gov/#!docketDetail;D=APHIS-2020-0085.

• Postal Mail/Commercial Delivery: Send your comment to Docket No. APHIS-2020-0085, Regulatory Analysis and Development, PPD, APHIS, Station 3A-03.8, 4700 River Road, Unit 118, Riverdale, MD 20737-1238.

Supporting documents and any comments we receive on this docket may be viewed at http://www.regulations.gov/#!docketDetail;D=APHIS-2020-0085 or in our reading room, which is located in room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on National Veterinary Services Laboratories request forms, contact Ms. Lori Swiderski, Program Coordinator, National Veterinary Services Laboratories, Diagnostics and Biologics, VS, APHIS, 1920 Dayton Ave., Ames, IA 50010; (515) 337-7405. For more information on the information collection process, contact Mr. Joseph Moxey, APHIS' Information Collection Coordinator, at (301) 851-2483.

SUPPLEMENTARY INFORMATION: Title: National Veterinary Services Laboratories Request Forms.

OMB Control Number: 0579-0430.

Type of Request: Revision to and extension of approval of an information collection.

Abstract: The Animal Health Protection Act (7 U.S.C. 8301 et seq.) provides the Secretary of Agriculture broad authority to prohibit or restrict, through orders and regulations, the importation or entry of any animal, article, or means of conveyance if the U.S. Department of Agriculture determines that the prohibition or restriction is necessary to prevent the introduction or spread of any pest or disease of livestock within the United States. Disease prevention is the most effective method for maintaining a healthy animal population.

As an element of the Animal and Plant Health Inspection Service (APHIS) disease prevention mission, the National Veterinary Services Laboratories (NVSL) safeguard U.S. animal health by ensuring that timely and accurate laboratory support is provided through a nationwide animal health diagnostic system. NVSL's work necessitates the use of several information collection activities including requests for reagents or supplies, NVSL contact information updates, and NVSL applications for laboratory training.

We are asking the Office of Management and Budget (OMB) to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.25 hours per response.

Respondents: Domestic and foreign diagnostic laboratories (Federal, State, university, or private), researchers (academia, private, government), and private veterinary practitioners.

Estimated annual number of respondents: 1,113.

Estimated annual number of responses per respondent: 4.

Estimated annual number of responses: 4,837.

Estimated total annual burden on respondents: 1,213 hours. (Due to averaging, the total annual burden hours may not equal the product of the annual number of responses multiplied by the reporting burden per response.)

All responses to this notice will be summarized and included in the request for OMB approval. All comments will also become a matter of public record.

Done in Washington, DC, this 15th day of September 2020.
Mark Davidson,
Acting Administrator, Animal and Plant Health Inspection Service.

[FR Doc. 2020-20741 Filed 9-18-20; 8:45 am]

BILLING CODE 3410-34-P